DEPARTMENT OF AGRICULTURE

Animal and Plant Health Inspection Service

7 CFR Part 319

[Docket No. APHIS-2011-0040]

RIN 0579-AD52

Importation of Mangoes From Australia

AGENCY: Animal and Plant Health Inspection Service, USDA.

ACTION: Proposed rule.

SUMMARY: We are proposing to amend the regulations concerning the importation of fruits and vegetables to allow the importation of fresh mangoes from Australia into the continental United States. As a condition of entry, the mangoes would have to be produced in accordance with a systems approach employing a combination of mitigation measures for the fungus Cytosphaera mangiferae and would have to be inspected prior to exportation from Australia and found free of this disease. The mangoes would have to be imported in commercial consignments only and would have to be treated by irradiation to mitigate the risk of insect pests. The mangoes would also have to be accompanied by a phytosanitary certificate with an additional declaration that the conditions for importation have been met. This action would allow the importation of mangoes from Australia while continuing to protect against the introduction of plant pests into the United States.

DATES: We will consider all comments that we receive on or before December 27, 2011.

ADDRESSES: You may submit comments by either of the following methods:

• Federal eRulemaking Portal: Go to http://www.regulations.gov/#!documentDetail;D=APHIS-2011-0040-0001.

• Postal Mail/Commercial Delivery: Send your comment to Docket No. APHIS-2011-0040, Regulatory Analysis and Development, PPD, APHIS, Station 3A-03.8, 4700 River Road Unit 118, Riverdale, MD 20737-1238.

Supporting documents and any comments we receive on this docket may be viewed at http://www.regulations.gov/#!docketDetail;D=APHIS-2011-0040 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Ms. Donna West, Senior Import Specialist, PPQ, APHIS, 4700 River Road Unit 39, Riverdale, MD 20737-1231; (301) 734-0627.

SUPPLEMENTARY INFORMATION:

Background

The regulations in “Subpart—Fruits and Vegetables” (7 CFR 319.56-1 through 319.56-52, referred to below as the regulations) prohibit or restrict the importation of fruits and vegetables into the United States from certain parts of the world to prevent the introduction and dissemination of plant pests that are new to or not widely distributed within the United States.

The national plant protection organization (NPPO) of Australia has requested that the Animal and Plant Health Inspection Service (APHIS) amend the regulations to allow fresh mangoes from Australia to be imported into the continental United States.

As part of our evaluation of Australia's request, we prepared a pest risk assessment (PRA), titled “Importation of Fresh Fruit of Mango, Mangifera indica L., from Australia into the Continental United States, A Pathway-Initiated Risk Analysis” (June 2011). The PRA evaluated the risks associated with the importation of mangoes into the continental United States from Australia.

The PRA identified 21 pests of quarantine significance present in Australia that could be introduced into the United States through the importation of mangoes:

Fruit Flies

• Bactrocera aquilonis

• B. cucumis

• B. frauenfeldi

• B. jarvisi

• B. kraussi

• B. murrayi

• B. neohumeralis

• B. opiliae

• B. tryoni

• Ceratitis capitata

Scales

• Red wax scale (Ceroplastes rubens)

• Green scale (Coccus viridis)

Weevil

• Mango seed weevil (Sternochetus mangiferae)

Fungi

• Cytosphaera mangiferae

• Fusarium spp. complex (associated with mango malformation disease)

• Lasioddiplodia pseudotheobraomae

• Neofusicoccum mangiferae

• Neoscytalidium novaehollandiae

• Phomopsis mangiferae

• Pseudofusicoccum adansoniae

Bacterium

• Xanthomonas campestris pv. mangiferaeindicae

According to our PRA, for pests rated high risk (C. rubens, C. capitata, and the nine Bactrocera spp. fruit flies), specific phytosanitary measures beyond standard port-of-entry inspection are strongly recommended. For pests rated medium risk (C. viridis, C. mangiferae, L. pseudotheobraomae, N. mangiferae, N. novaehollandiae, P. adansoniae, S. mangiferae, and X. campestris pv. mangiferaeindicae), specific phytosanitary measures beyond standard port-of-entry inspection may be necessary. For pests rated as low risk (the Fusarium spp. complex and P. mangiferae), specific phytosanitary measures beyond standard port-of-entry inspection are not required. To recommend specific measures to mitigate the risk posed by the pests identified in the PRA, we prepared a risk management document (RMD). Copies of the PRA and RMD may be obtained from the person listed under FOR FURTHER INFORMATION CONTACT or viewed on the Regulations.gov Web site (see ADDRESSES above for instructions for accessing Regulations.gov).

Based on the recommendations of the RMD, we are proposing to allow the importation of mangoes from Australia into the continental United States only if they are produced in accordance with a systems approach. The systems approach we are proposing would require that mangoes be imported only under the conditions described below. These conditions would be added to the regulations in a new § 319.56-54.

Mangoes would have to be imported in commercial consignments. Produce grown commercially is less likely to be infested with plant pests than noncommercial shipments. Noncommercial shipments are more prone to infestations because the commodity is often ripe to overripe, could be of a variety with unknown susceptibility to pests, and is often grown with little or no pest control. Commercial consignments, as defined in § 319.56-2, are consignments that an inspector identifies as having been imported for sale and distribution. Such identification is based on a variety of indicators, including, but not limited to: Quantity of produce, type of packaging, identification of grower or packinghouse on the packaging, and documents consigning the fruits or vegetables to a wholesaler or retailer.

The mangoes would have to be treated for insect pests, except pupae and adults of the order Lepidoptera, with irradiation in accordance with 7 CFR part 305, which contains the phytosanitary treatments regulations. The Plant Protection and Quarantine Treatment Manuel, which lists minimum absorbed irradiation doses for plant pests and classes of plant pests, includes a 400-gray dose for such pests. None of the pests associated with mangoes from Australia belong to the order Lepidoptera; therefore, this treatment would successfully mitigate the risk of all 13 insect pests associated with mangoes from Australia.

Within part 305, § 305.9 contains a number of other requirements for irradiation treatment, including monitoring by APHIS inspectors and safeguarding of the fruit. Treatment could be conducted at an approved facility in Australia or in the United States.

The required irradiation treatment would not mitigate the risks posed by the fungus C. mangiferae. In order to mitigate the risks posed by C. mangiferae, which we consider to be of medium risk of introduction and dissemination within the continental United States, we are proposing three options: (1) The mangoes be treated with a broad-spectrum post-harvest fungicidal dip, (2) the mangoes originate from an orchard that was inspected prior to the beginning of harvest during the growing season and the orchard was found free of C. mangiferae, or (3) the mangoes originate from an orchard that was treated with a broad-spectrum fungicide during the growing season and was inspected prior to harvest and the fruit was found free of C. mangiferae.

Symptoms of C. mangiferae can be easily seen and detected in the field on mango leaves and fruit during pre-harvest inspection. Post-harvest diseases do not occur without the presence of fungal symptoms on leaves in the field. Orchard application of broad-spectrum fungicide sprays protects fruit from infection by aerial spores produced on leaves or stems. In Australia, spraying of mango plants with broad-spectrum fungicides during the growing season is a common practice to control fungal diseases.

Prior to export from Australia, the fruit would have to be inspected by the NPPO of Australia and found free of C. mangiferae, L. pseudotheobraomae, N. mangiferae, N. novaehollandiae, P. adansoniae, P. mangiferae, Fusarium spp., and X. campestris pv. mangiferaeindicae. Symptoms of these pathogens are easily discernible with the naked eye and would most likely be detected during visual inspection of the fruit at the packinghouse. These practices would effectively remove these pathogens of concern from the pathway.

Each consignment of fruit would have to be accompanied by a phytosanitary certificate (PC) issued by the NPPO of Australia with additional declarations that would confirm that: (1) The mangoes were subjected to one of the pre- and post-harvest mitigation options for C. mangiferae described earlier and (2) the mangoes were inspected prior to export and found free of C. mangiferae, L. pseudotheobraomae, N. mangiferae, N. novaehollandiae, P. adansoniae, P. mangiferae, Fusarium spp., and X. campestris pv. mangiferaeindicae.

In addition, if the fruit is treated with irradiation outside the United States, each consignment of fruit would have to be inspected jointly by APHIS and the NPPO of Australia, and the PC would have to include an additional declaration that the fruit received the irradiation treatment.

Mangoes imported from Australia into the United States would also be subject to inspection at the port of entry.

Executive Order 12866 and Regulatory Flexibility Act

This proposed rule has been determined to be not significant for the purposes of Executive Order 12866 and, therefore, has been reviewed by the Office of Management and Budget.

We have prepared an economic analysis for this rule. The economic analysis provides a cost-benefit analysis, as required by Executive Order 12866, and an analysis of the potential economic effects of this action on small entities, as required by the Regulatory Flexibility Act. The economic analysis is summarized below. Copies of the full analysis are available by contacting the person listed under FOR FURTHER INFORMATION CONTACT or on the Regulations.gov Web site (see ADDRESSES above for instructions for accessing Regulations.gov).

The United States produces approximately 3,000 metric tons of mangoes per year, about one-hundredth of 1 percent of world production. While U.S. mango production is limited, the United States is the world's leading importer of fresh mangoes, receiving 33 percent of imports worldwide. Currently, Australia produces 60,000 metric tons of mangoes during the mid-September to mid-April season. Mango imports from Australia are expected to total about 1,200 metric tons per year. This represents approximately 0.5 percent of total U.S. mango imports. U.S. consumers will benefit from increased access to another variety of fresh mangoes. In addition, because the Australian mango season is opposite that of the United States, fresh mango imports would not compete with domestic production and U.S. consumers can have access to mangoes the entire year.

Under these circumstances, the Administrator of the Animal and Plant Health Inspection Service has determined that this action would not have a significant economic impact on a substantial number of small entities.

Executive Order 12988

This proposed rule would allow mangoes to be imported into the United States from Australia. If this proposed rule is adopted, State and local laws and regulations regarding mangoes imported under this rule would be preempted while the fruit is in foreign commerce. Fresh fruits are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2011-0040. Please send a copy of your comments to: (1) Docket No. APHIS-2011-0040, Regulatory Analysis and Development, PPD, APHIS, Station 3A-03.8, 4700 River Road, Unit 118, Riverdale, MD 20737-1238, and (2) Clearance Officer, OCIO, USDA, Room 404-W, 14th Street and Independence Avenue, SW., Washington, DC 20250. A comment to OMB is best assured of having its full effect if OMB receives it within 30 days of publication of this proposed rule.

APHIS is proposing to amend the fruits and vegetables regulations to allow, under certain conditions, the importation into the United States of commercial consignments of fresh mangoes from Australia. The conditions for the importation of fresh mangoes from Australia include requirements for pest exclusion at the production site, irradiation treatment, pest-excluding packinghouse procedures and port-of-entry inspections. The mangoes would also be required to be accompanied by a phytosanitary certificate issued by the national plant protection organization (NPPO) of Australia with an additional declaration confirming that the mangoes had been produced in accordance with the proposed requirements. This action would allow for the importation of fresh mangoes from Australia while continuing to provide protection against the introduction of injurious plant pests into the United States.

We are soliciting comments from the public (as well as affected agencies) concerning our proposed information collection and recordkeeping requirements. These comments will help us:

(1) Evaluate whether the proposed information collection is necessary for the proper performance of our agency s functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.5 hours per response.

Respondents: Foreign business.

Estimated annual number of respondents: 20.

Estimated annual number of responses per respondent: 5.

Estimated annual number of responses: 100.

Estimated total annual burden on respondents: 50 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 7 CFR Part 319

Coffee, Cotton, Fruits, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. A new § 319.56-54 is added to read as follows:

§ 319.56-54 Mangoes from Australia.

Mangoes (Mangifera indica) may be imported into the continental United States from Australia only under the following conditions:

(a) The mangoes may be imported in commercial consignments only.

(b) The mangoes must be treated by irradiation for plant pests of the class Insecta, except pupae and adults of the order Lepidoptera, in accordance with part 305 of this chapter.

(c) The risks presented by Cytosphaera mangiferae must be addressed in one of the following ways:

(1) The mangoes are treated with a broad-spectrum post-harvest fungicidal dip;

(2) The mangoes originate from an orchard that was inspected prior to the beginning of harvest during the growing season and the orchard was found free of C. mangiferae; or

(3) The mangoes originate from an orchard that were treated with a broad-spectrum fungicide during the growing season and was inspected prior to harvest and the mangoes are found free of C. mangiferae.

(d) Prior to export from Australia, the mangoes must be inspected by the national plant protection organization (NPPO) of Australia and found free of C. mangiferae, L. pseudotheobraomae, N. mangiferae, N. novaehollandiae, P. adansoniae, P. mangiferae, Fusarium spp. complex associated with mango malformation disease, and X. campestris pv. mangiferaeindicae.

(e) (1) Each consignment of fruit must be accompanied by a phytosanitary certificate issued by the NPPO of Australia with additional declarations that:

(i) The mangoes were subjected to one of the pre- or post-harvest mitigation options described in § 319.56-54(c), and

(ii) The mangoes were inspected prior to export from Australia and found free of C. mangiferae, L. pseudotheobraomae, N. mangiferae, N. novaehollandiae, P. adansoniae, P. mangiferae, Fusarium spp. complex associated with mango malformation disease, and X. campestris pv. mangiferaeindicae.

(2) If the fruit is treated with irradiation outside the United States, each consignment of fruit must be inspected jointly by APHIS and the NPPO of Australia, and the phytosanitary certificate must include an additional declaration that the fruit was treated with irradiation in accordance with part 305 of this chapter.

Done in Washington, DC this 19th day of October 2011.
Kevin Shea,
Acting Administrator, Animal and Plant Health Inspection Service.

[FR Doc. 2011-27564 Filed 10-24-11; 8:45 am]

BILLING CODE 3410-34-P